DEPARTMENT OF HEALTH AND HUMAN SERVICES

National Institutes of Health

National Institute of Allergy and Infectious Diseases; Notice of Meeting

Pursuant to section 10(a) of the Federal Advisory Committee Act, as amended (5 U.S.C. Appendix 2), notice is hereby given of a meeting of the National Advisory Allergy and Infectious Diseases Council.

The meeting will be open to the public. Individuals who wish to listen to the meeting should register with Jemma Long at the phone number of the contact person listed below at least two days in advance of the meeting.

Name of Committee: National Advisory Allergy and Infectious Diseases Council; Allergy, Immunology and Transplantation Subcommittee.

Date: March 31, 2009.

Time: 1 p.m. to 1:30 p.m.

Agenda: The subcommittee will be discussing a concept clearance for the Human Immunology Profiling Centers of Excellence (U01/U19).

Place: National Institutes of Health, 6610 Rockledge Drive, Bethesda, MD 20817 (Telephone Conference Call).

Contact Person: Daniel Rotrosen, PhD, Director, Division of Allergy, Immunology & Transplantation, National Institutes of Health/NIAID, 6610 Rockledge Drive, MSC 6601, Bethesda, MD 20892-6601, 301-496-1886, drotrosen@niaid.nih.gov.

This notice is being published less than 15 days prior to the meeting date due to timing limitations created by the Economic Recovery Act.

Information is also available on the Institute's/Center's home page: http://www.niaid.nih.gov/facts/facts.htm, where an agenda and any additional information for the meeting will be posted when available.

(Catalogue of Federal Domestic Assistance Program Nos. 93.855, Allergy, Immunology, and Transplantation Research; 93.856, Microbiology and Infectious Diseases Research, National Institutes of Health, HHS)

Dated: March 16, 2009.
Jennifer Spaeth,
Director, Office of Federal Advisory Committee Policy.

[FR Doc. E9-6199 Filed 3-20-09; 8:45 am]

BILLING CODE 4140-01-P